DEPARTMENT OF THE INTERIOR

Bureau of Land Management

[LLAZC03000.L51050000.EA0000. LVRCA19SA090; AZ-SRP-030-15-01]

Notice of Temporary Closure and Temporary Restrictions of Selected Public Lands in La Paz County, AZ

AGENCY: Bureau of Land Management, Interior.

ACTION: Notice of temporary closure and restrictions.

SUMMARY: As authorized under the provisions of the Federal Land Policy and Management Act of 1976, as amended, notice is hereby given that temporary closures and temporary restrictions of activities will be in effect on public lands administered by the Lake Havasu Field Office, Bureau of Land Management (BLM) to minimize the risk of potential collisions with spectators and racers during the annual Best In The Desert (BITD) off-highway vehicle (OHV) race events, Parker 250 and Parker 425, authorized under a Special Recreation Permit (SRP).

DATES: This notice is effective upon publication. The temporary restrictions for the Parker 250 take effect at noon, January 9, 2020, through 2 a.m. January 12, 2020. The temporary closure for the Parker 250 takes effect at 5 a.m. January 11, 2020, through 2 a.m. January 12, 2020. The temporary restrictions for the Parker 425 take effect at noon January 22, 2020, through 11:59 p.m. January 25, 2020. The temporary closure for the Parker 425 takes effect at 5 a.m. January 24, 2020, through 11:59 p.m. January 25, 2020.

FOR FURTHER INFORMATION CONTACT: Jason West, Field Manager, BLM Lake Havasu Field Office, 1785 Kiowa Avenue, Lake Havasu City, Arizona 86403, 928-505-1200. Also see the Lake Havasu Field Office website: https://www.blm.gov/office/lake-havasu-field-office. Persons who use a telecommunications device for hearing impaired (TDD) may call the Federal Relay Service (FRS) at 800-877-8339 to contact the above individual during normal business hours. FRS is available 24 hours a day, 7 days a week, to leave a message or question. You will receive a reply during normal business hours.

SUPPLEMENTARY INFORMATION: On January 6, 2015, the Decision Record authorizing the BITD Parker Races SRP was signed. This permit authorizes the BITD to utilize the Parker 400 course for the Parker 250 race event on January 11 through 12, 2020, and for the Parker 425 race event on January 24 through 25, 2020. The permit is authorized from 2015 through 2024. The Environmental Assessment analyzing these routes (EA #DOI-BLM-AZ-C030-2014-0040) concluded that allowing permitted motorized racers exclusive use of the Lake Havasu Field Office Record of Decision/Approved Resource Management Plan (2007) designated Parker 400 course would mitigate safety concerns. These routes receive the most intense and concentrated high-speed use during the two annual permitted events.

These temporary closures and restrictions affect public lands in and around the Parker 400 course near the communities of Parker and Bouse in La Paz County, Arizona. The temporary restriction area begins on public lands east of the eastern boundary of the Colorado River Indian Tribe (CRIT) Reservation, along Shea Road, then east into Osborne Wash onto the Parker-Swansea Road to the Central Arizona Project (CAP) Canal, then north on the west side of the CAP Canal, crossing the canal on the county-maintained road, running northeast into Mineral Wash Canyon, then southeast on the county-maintained road, through the four-corners intersection to the Midway (Pit) intersection, then east on Transmission Pass Road, through State Trust Land located in Butler Valley, turning north into Cunningham Wash to North Tank; continuing south to Transmission Pass Road and east (reentering public land) within two miles of Alamo Dam Road. The temporary restriction area boundary turns south and west onto the wooden power line road, onto the State Trust Land in Butler Valley, turning southwest into Cunningham Wash to the Graham Well, intersecting Butler Valley Road, then north and west on the county-maintained road to the “Bouse Y” intersection, two miles north of Bouse, Arizona. The temporary restriction area boundary proceeds north, paralleling the Bouse-Swansea Road to the Midway (Pit) intersection, then west along the north boundary (power line) road of the East Cactus Plain Wilderness Area to Parker-Swansea Road. The temporary restriction area boundary turns west into Osborne Wash crossing the CAP Canal, along the north boundary of the Cactus Plain Wilderness Study Area; it continues west staying in Osborne Wash and crossing Shea Road along the southern boundary of Gibraltar Wilderness, rejoining Osborne Wash at the CRIT Reservation boundary. The closure area follows the Parker 400 course as designated in the 2007 Lake Havasu Resource Management Plan.

The temporary closures and restrictions are necessary because of the high speed nature of the race event and the added safety concerns due to the limited visibility when there is no daylight. Roads leading into the public lands under the temporary closure and restrictions will be posted with copies of the temporary closure, temporary restrictions, and associated maps to notify the public. The temporary closure and restriction orders will be posted in the Lake Havasu Field Office and online at https://www.blm.gov/office/lake-havasu-field-office. Maps of the affected area and other documents associated with this temporary closure are available at the Lake Havasu Field Office, 1785 Kiowa Avenue, Lake Havasu City, Arizona.

The closures and restrictions are issued under the authority of 43 CFR 8364.1 which allows the BLM to establish closures for the protection of persons, property, and public lands and resources. Violation of any of the terms, conditions, or restrictions contained within this closure order may subject the violator to citation or arrest with a penalty or fine or imprisonment or both as specified by law.

Temporary Closure and Restrictions and Existing Regulations

1. Environmental Resource Management and Protection

a. No person may deface, disturb, remove, or destroy any natural object.

b. Fireworks: The use, sale, or possession of personal fireworks is prohibited.

c. Cutting or collecting firewood of any kind, including dead and downed wood or other vegetative material is prohibited.

d. Grey Water Discharge: The discharge and dumping of grey water onto the ground surface is prohibited. Grey water is defined as water that has been used for cooking, washing, dishwashing, or bathing and/or contains soap, detergent, food scraps, or food residue, regardless of whether such products are biodegradable or have been filtered or disinfected.

e. Black Water Discharge: The discharge and dumping of black water onto the ground surface is prohibited. Black water is defined as wastewater containing feces, urine, and/or flush water.

f. Human Waste: The depositing of human waste (liquid and/or solid) on the ground surface is prohibited.

g. Trash: The discharge of any and all trash/litter onto the ground surface is prohibited. All event participants must pack out or properly dispose of all trash at an appropriate disposal facility.

h. Hazardous Materials: The dumping or discharge of vehicle oil, petroleum products, or other hazardous household, commercial, or industrial refuse or waste onto the ground surface is prohibited. This applies to all recreational vehicles, trailers, motorhomes, port-a-potties, generators, and other camp infrastructure.

2. Alcohol/Prohibited Substance

a. Possession of an open container of an alcoholic beverage by the driver or operator of any motorized vehicle, whether or not the vehicle is in motion, is prohibited.

b. Possession of alcohol by minors. The following are prohibited:

i. Consumption or possession of any alcoholic beverage by a person under 21 years of age on public lands.

ii. Selling, offering to sell, or otherwise furnishing or supplying any alcoholic beverage to a person under 21 years of age on public lands.

c. Operation of a motor vehicle while under the influence of alcohol, marijuana, narcotics, or dangerous drugs is prohibited.

3. Drug Paraphernalia

a. The possession of drug paraphernalia is prohibited.

4. Disorderly Conduct

a. Disorderly conduct is prohibited. Disorderly conduct means that an individual, with the intent of recklessly causing public alarm, nuisance, jeopardy, or violence, or recklessly creating a risk thereof:

i. Engages in fighting or violent behavior;

ii. Uses language, an utterance or gesture, or engages in a display or act that is physically threatening or menacing, or done in a manner that is likely to inflict injury or incite an immediate breach of the peace.

iii. Obstructs, resists, or attempts to elude a law enforcement officer, or fails to follow their orders or directions.

5. Eviction of Persons

a. The temporary closure and restriction area is closed to any person who:

i. Has been evicted from the event by the permit holder, whether or not the eviction was requested by the BLM;

ii. Has been evicted from the event by the BLM; or

iii. Has been ordered by a law enforcement officer to leave the area of the permitted event.

b. Any person evicted from the event forfeits all privileges to be present within the temporary closure and restriction area.

6. Motor Vehicles

a. Motor vehicles must comply with the following requirements:

i. The operator of a motor vehicle must possess a valid driver's license.

ii. Motor vehicles and trailers must possess evidence of valid registration.

iii. Motor vehicle operators must possess evidence of valid insurance.

iv. Motor vehicles and trailers must not block a street used for vehicular travel or a pedestrian pathway. Parking any off-highway vehicle in violation of posted restrictions; or in such a manner as to obstruct or impede normal or emergency traffic movement or the parking of other vehicles; creating a safety hazard; or endangering any person, property, or feature is prohibited. Vehicles parked in violation are subject to citation, removal, and/or impoundment at the owner's expense.

v. Motor vehicles must not exceed the posted speed limit.

vi. Operating a vehicle through, around, or beyond a restrictive sign, barricade, fence, or traffic control barrier or device is prohibited.

vii. Failure to obey any person authorized to direct traffic or control access to event area including law enforcement officers, BLM officials, and designated race officials is prohibited.

b. The temporary closure area is closed to motor vehicle use, except as provided below. Motor vehicles may be operated within the temporary closure area under the circumstances listed below:

i. Race participants and support vehicles on designated routes;

ii. BLM, medical, law enforcement, and firefighting vehicles are authorized at all times;

iii. Vehicles operated by the permit holder's staff or contractors and volunteers are authorized at all times. These vehicles must display evidence of event registration at all times in such manner that it is visible to the front of the vehicle while the vehicle is in motion.

7. Public Camping

a. The temporary closure and restriction area is closed to public camping with the following exceptions:

i. The permitted event's spectators, who are camped in designated spectator areas, as marked by protective fencing, barriers, and informational signage provided by the permit holder;

ii. The permit holder's authorized staff, contractors, and BLM-authorized event managers.

b. Spectator area site reservations, denying other visitors or parties from utilizing unoccupied portions of the spectator area by marking with flags, tape, posts, cones, etc. is prohibited. Vehicles and trailers may not be left unattended for over 72 hours.

c. Allowing any pet or other animal to be unrestrained is prohibited. All pets must be restrained by a leash of not more than six feet in length.

d. Failure to observe restricted area quiet hours of midnight to 6 a.m. is prohibited.

8. Weapons

a. Discharging or use of firearms or other weapons is prohibited.

b. The prohibition above shall not apply to county, state, tribal and Federal law enforcement personnel who are working in their official capacity at the event.

9. Race Course Closure

a. The designated race course as shown in the Lake Havasu Field Office approved RMP and Decision Record is closed to public entry during the temporary closure.

b. The temporary closure area is closed to use by members of the public with the following exceptions:

i. The person is an employee or authorized volunteer with the BLM, a law enforcement officer, emergency medical service provider, fire protection provider, or another public agency employee working at and assigned to the event;

ii. The person is working at or attending the event directly on behalf of the permit holder.

c. Failure to obey any official sign posted by the BLM, law enforcement, La Paz County, or the permit holder is prohibited.

Enforcement: Any person who violates these closure rules may be tried before a United States magistrate and fined in accordance with 18 U.S.C. 3571, imprisoned no more than 12 months under 43 U.S.C. 1733(a) and 43 CFR 8360.0-7, or both. In accordance with 43 CFR 8365.1-7, state or local officials may also impose penalties for violations of Arizona law. A complete list of laws and regulations applicable to public lands in Arizona may be viewed at: http://www.azd.uscourts.gov/sites/default/files/general-orders/19-14.pdf.

Authority: 43 CFR 8364.1.

Jason West,
Field Manager.

[FR Doc. 2019-27906 Filed 12-26-19; 8:45 am]

BILLING CODE 4310-32-P